DEPARTMENT OF TRANSPORTATION

Federal Aviation Administration

[Summary Notice No. PE-2002-25]

Petitions for Exemption; Dispositions of Petitions Issued

AGENCY: Federal Aviation Administration (FAA), DOT.

ACTION: Notice of dispositions of prior petitions.

SUMMARY: Pursuant to FAA's rulemaking provisions governing the application, processing, and disposition of petitions for exemption part 11 of Title 14, Code of Federal Regulations (14 CFR), this notice contains a summary of dispositions of certain petitions previously received. The purpose of this notice is to improve the public's awareness of, and participation in, this aspect of FAA's regulatory activities. Neither publication of this notice nor the inclusion or omission of information in the summary is intended to affect the legal status.

FOR FURTHER INFORMATION CONTACT: Denise Emrick (202) 267-5174, Office of Rulemaking (ARM-1), Federal Aviation Administration, 800 Independence Avenue, SW., Washington, DC 20591.

This notice is published pursuant to 14 CFR 11.85 and 11.91.

Issued in Washington, DC, on March 27, 2002.
Gary A. Michel,
Acting Assistant Chief Counsel for Regulations.

Dispositions of Petitions

Docket No.: FAA-2002-11716.

Petitioner: Falcon Aviation Consultants, Inc.

Section of 14 CFR Affected: 14 CFR 91.109(a) and (b) (3).

Description of Relief Sought/Disposition: To permit Falcon Aviation Consultants, Inc. flight instructors to conduct certain flight instruction to meet recent experience requirements in a Beechcraft Bonanza airplane equipped with a functioning throwover control wheel in place of functioning dual controls, subject to certain conditions and limitations.

Grant, 03/14/2002, Exemption No. 6803B (Previously Docket No. 29284)

Docket No.: FAA-2000-8009.

Petitioner: Alaska Airlines, Inc.

Section of 14 CFR Affected: 14 CFR 121.433(c)(1)(iii), 121.440(a), 121.441(a)(1) and (b)(1), and appendix F to part 121.

Description of Relief Sought/Disposition: To permit Alaska Airlines to combine recurrent flight and ground training and proficiency checks for Alaska Airline's flight crewmembers in a single, annual training and proficiency evaluation program.

Grant, 03/19/2002, Exemption No. 6043D

Docket No.: FAA-2002-10876.

Petitioner: Experimental Aircraft Association.

Section of 14 CFR Affected: 14 CFR 91.319(a)(2), 119.5(g), and 119.21(a).

Description of Relief Sought/Disposition: To permit Experimental Aircraft Association to operate its Spirit of St. Louis airplane for the purpose of carrying passengers for compensation or hire on local flights for educational and historical purposes.

Grant, 03/15/2002, Exemption No. 6541E

Docket No.: FAA-2000-8468.

Petitioner: Yankee Air Force, Inc.

Section of 14 CFR Affected: 14 CFR 91.315, 119.5(g), and 119.21(a).

Description of Relief Sought/Disposition: To permit Yankee Air Force to operate its B-25, in addition to its already approved Boeing B-17, for the purpose of carrying passengers for compensation or hire on local flights for educational and historical purposes.

Grant, 03/14/2002, Exemption No. 6631D

Docket No.: FAA-2001-11090.

Petitioner: Army Aviation Heritage Foundation.

Section of 14 CFR Affected: 14 CFR 91.319, 119.5(g), and 119.25(b).

Description of Relief Sought/Disposition: To permit Army Aviation Heritage Foundation to operate its former military UH-1H helicopter that holds an experimental airworthiness certificate for the purpose of carrying passengers for compensation or hire on local educational flights.

Grant, 03/14/2002, Exemption No. 7736A

[FR Doc. 02-7859 Filed 4-1-02; 8:45 am]

BILLING CODE 4910-13-M